OFFICE OF GOVERNMENT ETHICS

Proposed Collection; Comment Request: Proposed Revised Public Financial Disclosure Access Customer Service Survey

AGENCY: Office of Government Ethics (OGE).

ACTION: Notice.

SUMMARY: This notice informs the public and executive branch agencies that, after this first round notice and comment period, OGE plans to submit an updated OGE Public Financial Disclosure Access Customer Service Survey form to the Office of Management and Budget (OMB) for review and three-year extension of approval under the Paperwork Reduction Act. This notice also identifies a couple of minor revisions proposed to one of the survey questions.

DATES: Comments by the public and agencies on this proposed information collection as proposed for revision and extension are invited and should be received by September 4, 2001.

ADDRESSES: Comments should be sent to: James V. Parle, Chief, Office of Information Resources Management, Office of Government Ethics, Suite 500, 1201 New York Avenue, NW., Washington, DC 20005-3917. Comments may also be sent electronically to OGE's Internet E-mail address at usoge@oge.gov (for E-mail messages, the subject line should include the following reference—“Public Financial Disclosure Access Customer Service Survey Paperwork comment”).

FOR FURTHER INFORMATION CONTACT: Mr. Parle at the Office of Government Ethics; telephone: 202-208-8000, ext. 1113; TDD: 202-208-8025; FAX: 202-208-8037. A copy of the proposed Survey form may be obtained, without charge, by contacting Mr. Parle.

SUPPLEMENTARY INFORMATION: The Office of Government Ethics uses the Public Financial Disclosure Access Customer Service Survey form to assess requester satisfaction with the service provided by OGE in responding to requests by members of the public for access to copies of Standard Form (SF) 278 Executive Branch Personnel Public Financial Disclosure Reports on file with OGE. Most of the SF 278 reports available at OGE are those filed by executive branch Presidential appointees subject to Senate confirmation. Requests for access to SF 278 reports are made pursuant to the special public access provision of section 105 of the Ethics in Government Act of 1978 (the Ethics Act), as codified at 5 U.S.C. appendix 105, and procedures in 5 CFR 2634.603 of OGE's executive branchwide regulations thereunder, by completing an OGE Form 201, “Request to Inspect or Receive Copies of SF 278 Executive Branch Personnel Public Financial Disclosure Report or Other Covered Record.”

The survey forms are distributed to requesters along with copies of requested SF 278 reports with instructions asking them to complete and return the survey to OGE via the self-contained postage-paid postcards (the reverse side of the survey form, when folded, becomes a pre-addressed postcard). The purpose of the survey is to determine through customer responses how well OGE is responding to such requests and how OGE can improve its customer service in this important area. The current paperwork approval for the survey form is scheduled to expire at the end of October 2001.

The Office of Government Ethics is issuing this first round Federal Register notice to announce its forthcoming request to OMB for paperwork renewal of the survey form, with two proposed minor changes to survey question 4 to achieve greater clarity. That question currently asks whether OGE's requirement to fax or mail requests that involve more than six filers creates a problem for the requester. Based on an analysis of customer responses to question 4, OGE believes that the following statement should be added: “SKIP this question if your request involved six or fewer filers.” Additionally, one of the three requested responses to question 4, “Not Applicable,” is being changed to “My request did not have to be faxed or mailed.”

Pursuant to the Paperwork Reduction Act, OGE is not including in its public burden estimate for the survey form the limited number of access requests filed by other Federal agencies or Federal employees. Nor is OGE including in that estimate the limited number of requests for copies of other records covered under the special Ethics Act public access provision (such as certificates of divestiture) since the survey is only sent to persons who request copies of SF 278 reports. As so defined, the total number of access survey forms for copies of SF 278s estimated to be filed annually at OGE over the next three years by members of the public (primarily by news media representatives, public interest group members and private citizens) is 50. This estimate is based on a calculation of the number of survey forms received at OGE between April 1999 and June 2001 (70 surveys). This number also takes into account an expected increase in the number of public requests as a result of the transition and the new Presidential administration. The estimated average amount of time to read the instructions on the proposed revised customer service survey form, and to complete the form, is three minutes. Thus, the overall estimated annual public burden for the OGE Public Financial Disclosure Access Customer Service Survey as proposed for revision will be three hours (rounded up from two and a half hours (= 50 forms × 3 minutes per form)).

Public comment is invited on all aspects of the survey form as proposed for renewal with minor revision, including specifically views on: the accuracy of OGE's public burden estimate; the potential for enhancement of quality, utility and clarity of the information to be collected; and the minimization of burden (including the possibility of use of information technology).

After this notice and comment period, OGE will submit the survey form, as revised, to OMB for review and three-year approval under the provisions of the Paperwork Reduction Act (44 U.S.C. chapter 35). At that time, OGE will also publish a second paperwork notice in the Federal Register to inform the public and Federal agencies. Comments received in response to this notice will be summarized for, and may be included with, the forthcoming OGE request for OMB three-year paperwork approval. They will also be explained in the second round notice. The comments will also become a matter of public record.

Approved: June 13, 2001.
Amy L. Comstock,
Director, Office of Government Ethics.

[FR Doc. 01-15324 Filed 6-15-01; 8:45 am]

BILLING CODE 6345-01-P